DEPARTMENT OF TRANSPORTATION

Federal Railroad Administration

[Docket Number FRA-2010-0171]

Petition for Extension of Waiver of Compliance

Under part 211 of title 49 Code of Federal Regulations (CFR), this document provides the public notice that on March 1, 2024, Sacramento Southern Railroad/California State Railroad Museum (CSRM) petitioned the Federal Railroad Administration (FRA) to extend a waiver of compliance from certain provisions of the Federal railroad safety regulations contained at 49 CFR parts 215 (Railroad Freight Car Safety Standards) and 224 (Reflectorization of Rail Freight Rolling Stock). FRA assigned the petition Docket Number FRA-2010-0171.

Specifically, CSRM requests to extend its previous ¹ special approval pursuant to 49 CFR 215.203, Restricted cars, for 2 railcars (SSRR 6102 and SSRR 6108) and 1 locomotive (SN 402) that are more than 50 years from the dates of original construction. CSRM also seeks relief from § 215.303, Stenciling of restricted cars, and part 224, to operate the cars in excursion service. In support of its request, CSRM states that the cars will not be used in interchange or for revenue freight service, and the locomotive is primarily used to haul passenger trains during daylight hours or for yard switching operations. CSRM also states that the equipment is inspected regularly and in excellent mechanical condition.

¹ The special approval/waiver in Docket Number FRA-2010-0171 expired on May 16, 2022.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by July 1, 2024 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-09450 Filed 4-30-24; 8:45 am]

BILLING CODE 4910-06-P